DEPARTMENT OF LABOR

Mine Safety and Health Administration

Petitions for Modification

The following parties have filed petitions to modify the application of existing safety standards under section 101(c) of the Federal Mine Safety and Health Act of 1977.

1. Consolidation Coal Company

[Docket No. M-2004-048-C]

Consolidation Coal Company, 1800 Washington Road, Pittsburgh, Pennsylvania 15241-1421 has filed a petition to modify the application of 30 CFR 75.507 (Power connection points) to its Blacksville No. 2 Mine (MSHA I.D. No. 46-01968) located in Monongalia County, West Virginia. The petitioner proposes to use non-permissible submersible pumps in bleeder and return entries and sealed areas of the Blacksville No. 2 Mine under specific terms and conditions. The petitioner asserts that the proposed alternative method would provide at least the same measure of protection as the existing standard.

2. Consolidation Coal Company

[Docket No. M-2004-049-C]

Consolidation Coal Company, 1800 Washington Road, Pittsburgh, Pennsylvania 15241-1421 has filed a petition to modify the application of 30 CFR 75.507 (Power connection points) to its Loveridge No. 22 Mine (MSHA I.D. No. 46-01433) located in Marion County, West Virginia. The petitioner proposes to use non-permissible submersible pumps in bleeder and return entries and sealed areas of the Loveridge No. 22 Mine under specific terms and conditions. The petitioner asserts that the proposed alternative method would provide at least the same measure of protection as the existing standard.

Request for Comments

Persons interested in these petitions are encouraged to submit comments via Federal eRulemaking Portal: http://www.regulations.gov; e-mail: Comments@MSHA.gov; fax: (202) 693-9441; or Regular Mail/Hand Delivery/Courier: Mine Safety and Health Administration, Office of Standards, Regulations, and Variances, 1100 Wilson Boulevard, Room 2350, Arlington, Virginia 22209. All comments must be postmarked or received in that office on or before January 10, 2005. Copies of these petitions are available for inspection at that address.

Dated at Arlington, Virginia this 3rd day of December 2004.
Marvin W. Nichols, Jr.,
Director, Office of Standards, Regulations, and Variances.

[FR Doc. 04-27035 Filed 12-8-04; 8:45 am]

BILLING CODE 4510-43-P